FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
017236N | Simpson's Shipping Enterprise, 248 West Lincoln Drive, Mount Vernon, NY 10050 | June 20, 2005.
015797N | United Cargo Handling A/S dba United Cargo Lines, Strandagervej 10, DK 2900, Hellerup, Denmark | August 23, 2002.

Sandra L. Kusumoto,
Director, Bureau of Consumer Complaints and Licensing.

[FR Doc. 05-18823 Filed 9-20-05; 8:45 am]

BILLING CODE 6730-01-P